DEPARTMENT OF ENERGY

Federal Energy Regulatory Commission

[Docket No. ER00-2398-006, et al.]

Baconton Power, LLC, et al.; Electric Rate and Corporate Filings

February 8, 2005.

The following filings have been made with the Commission. The filings are listed in ascending order within each docket classification.

1. Baconton Power LLC

[Docket No. ER00-2398-006]

Take notice that on February 2, 2005, Baconton Power LLC filed a notice of change in status relating to the facts relied upon by the Commission in approving its application to charge market-based rates for wholesale sales.

Comment Date: 5 p.m. Eastern Time on February 23, 2004.

2. Colton Power, L.P.

[Docket No. ER01-2644-006]

Take notice that on February 1, 2005, Colton Power, L.P. (Colton) tendered for filing an updated market power analysis and notice of change in status in compliance with the Commission order authorizing Colton to engage in wholesale sales of electric power at market-based rates issued January 30, 2002 in Docket No. ER01-2644-000, et al., 98 FERC ¶ 61,059.

Comment Date: 5 p.m. Eastern Time on February 22, 2005.

3. Duke Energy Lee, LLC

[Docket No. ER04-641-003]

Take notice that on February 1, 2005, Duke Energy Lee, LLC (Duke Lee) submitted its compliance filing in response to the Commission's order issued January 25, 2005 in Docket Nos. ER05-641-000, 001 and 002, Duke Energy Lee, LLC, 110 FERC ¶ 61,057 (2005)

Duke Lee states that copies of the filing were served on parties on the official service list in the above-captioned proceeding.

Comment Date: 5 p.m. Eastern Time on February 22, 2005.

4. NorthWestern Energy

[Docket No. ER04-1106-002]

Take notice that on February 2, 2005, NorthWestern Energy filed to withdraw the tariff sheets submitted August 9, 2004, as amended on November 3, 2004, containing a proposed modification to Schedule 4 (Energy Imbalance Service) and a new Schedule 9 (Generation Imbalance Service), and renewed its request for acceptance and approval of proposed Attachment J which contains the Large Generator Interconnection Agreement and the Large Generator Interconnection Procedures.

Comment Date: 5 p.m. Eastern Time on February 23, 2005.

5. Old Dominion Electric Cooperative

[Docket No. ER05-309-001]

Take notice that on February 4, 2005, Old Dominion Electric Cooperative (Old Dominion) in response to the Commission's deficiency letter order issued January 27, 2005, filed an amendment to its December 7, 2004 filing in Docket No. ER05-309-000

Old Dominion states that a copy of the filing was served upon each of Old Dominion's member cooperatives, the public service commissions in the Commonwealth of Virginia and the states of Delaware, Maryland and West Virginia, and Bear Island Paper Company, LLC.

Comment Date: 5 p.m. Eastern Time on February 14, 2005.

6. ISO New England Inc.; Bangor Hydro-Electric Company; Central Maine Power Company; NSTAR Electric & Gas Corporation, on behalf of its affiliates: Boston Edison Company, Commonwealth Electric Company, Cambridge Electric Light Company, and Canal Electric Company; New England Power Company; Northeast Utilities Service Company, on behalf of its operating company affiliates: The Connecticut Light and Power Company, Western Massachusetts Electric Company, Public Service Company of New Hampshire and Holyoke Water Power Company; The United Illuminating Company; Fitchburg Gas and Electric Light Company; Unitil Energy Systems, Inc.; Vermont Electric Power Company; Central Vermont Public Service Corporation; Green Mountain Power Corporation; Vermont Electric Cooperative; Florida Power & Light Company—New England Division

[Docket No. ER05-374-002]

Take notice that, on January 28, 2005, ISO New England Inc. (ISO-NE) submitted a compliance filing pursuant to the Commission's order issued December 30, 2004 in Docket No. ER05-135-000. ISO-NE states that the filing amends section IV.B.6 of ISO-NE's Transmission, Markets and Services Tariff, FERC Electric Tariff No. 3 to state that all quarterly and annual capital budget and expenditure filings will be filed pursuant to, and subject to Commission review under, section 205 of the Federal Power Act.

ISO-NE states that copies of the filing were served on parties on the official service list in the above-captioned proceeding, as well as to the NEPOOL Participants and the New England state governors and regulatory commissions.

Comment Date: 5 p.m. Eastern Time on February 18, 2005.

7. ISO New England Inc.; Bangor Hydro-Electric Company; Central Maine Power Company; NSTAR Electric & Gas Corporation, on behalf of its affiliates: Boston Edison Company, Commonwealth Electric Company, Cambridge Electric Light Company, and Canal Electric Company; New England Power Company; Northeast Utilities Service Company, on behalf of its operating company affiliates: The Connecticut Light and Power Company, Western Massachusetts Electric Company, Public Service Company of New Hampshire and Holyoke Water Power Company; The United Illuminating Company; Fitchburg Gas and Electric Light Company; Unitil Energy Systems, Inc.; Vermont Electric Power Company; Central Vermont Public Service Corporation; Green Mountain Power Corporation; Vermont Electric Cooperative; Florida Power & Light Company—New England Division

[Docket No. ER05-374-003]

Take notice that, on January 28, 2005, ISO New England Inc. (ISO-NE) submitted a compliance filing pursuant to the Commission's order issued December 30, 2004 in Docket No. ER05-134-000 to remove Schedule 5 from Section IV.A of ISO-NE's Transmission, Markets and Services Tariff, FERC Electric Tariff No. 3. ISO-NE states that Schedule 5 would have served as a placeholder to allow a Regional State Committee to submit, justify, and collect its administrative costs should such a committee be formed in the context of the regional transmission organization.

ISO-NE states that copies of the filing were served on parties on the official service list in the above-captioned proceeding, as well as the NEPOOL Participants and the New England state governors and regulatory commissions.

Comment Date: 5 p.m. Eastern Time on February 18, 2005.

8. Eastern Desert Power LLC

[Docket No. ER05-534-000]

Take notice that on February 1, 2005, Eastern Desert Power LLC (Eastern Desert) submitted an application for authorization to sell energy, capacity and ancillary services at market-based rates. Eastern Desert states that it is developing and will own and operate an approximately 51-megawatt wind energy facility (the Facility) in San Bernardino County, California. Eastern Desert requests that the Commission grant waivers and blanket approvals provided to applicants that receive authority for market-based rates.

Comment Date: 5 p.m. Eastern Time on February 22, 2005.

9. Xcel Energy Services Inc.

[Docket No. ER05-535-000]

Take notice that on February 1, 2005, Xcel Energy Services Inc. (XES), on behalf of the Xcel Energy Operating Companies (Northern States Power Company, Northern States Power Company (Wisconsin), Public Service Company of Colorado, and Southwestern Public Service Company), submitted revised tariff sheets to the Xcel Energy Operating Companies open-access transmission tariff (Xcel Energy OATT). XES states that the purpose of this filing is to remove Cheyenne Light, Fuel and Power Company as one of the Xcel Energy Operating Companies offering transmission service under the Xcel Energy OATT.

XEL states that copies of the filing were served upon XES's state public service commissions. XES requests waiver of further service requirements as no third party has taken service under this tariff on the facilities of Cheyenne Light, Fuel and Power Company.

Comment Date: 5 p.m. Eastern Time on February 22, 2005.

10. AEP Texas Central Company

[Docket No. ER05-536-000]

Take notice that on February 2, 2005, American Electric Power Service Corporation (AEPSC), as agent for AEP Texas Central Company (AEPTCC) formerly called Central Power and Light Company, submitted for filing an interconnection agreement between AEPTCC and LCRA Transmission Services Corporation (LCRA). AEPTCC requests an effective date of January 11, 2005.

AEPSC states that it has served copies of the filing on LCRA and the Public Utility Commission of Texas.

Comment Date: 5 p.m. Eastern Time on February 23, 2005.

11. PacifiCorp

[Docket No. ER05-537-000]

Take notice that on February 2, 2005, PacifiCorp tendered for filing Amendment No. 3 to the June 1, 1994 AC Intertie Agreement between PacifiCorp and Bonneville Power Administration (PacifiCorp's First Revised Rate Schedule FERC No 368).

PacifiCorp states that copies of this filing were supplied to the Public Utility Commission of Oregon, the Washington Utilities and Transportation Commission, and Bonneville Power Administration.

Comment Date: 5 p.m. Eastern Time on February 23, 2005.

12. PSI Energy, Inc., Northern Indiana Public Service Company

[Docket No. ER05-538-000]

Take notice that on February 2, 2005, PSI Energy, Inc. (PSI) and Northern Indiana Public Service Company (NIPSCO) tendered for filing an Amended and Restated Facilities Agreement between PSI and NIPSCO. PSI and NIPSCO request an effective date of May 18, 2004.

PSI and NIPSCO state that copies of this filing have been served on the Indiana Utility Regulatory Commission.

Comment Date: 5 p.m. Eastern Time on February 23, 2005.

13. PacifiCorp

[Docket No. ER05-539-000]

Take notice that on February 3, 2005, PacifiCorp tendered for filing Order 2003-B revisions to its open access transmission tariff (OATT). PacifiCorp states that these revisions change portions of the pro forma Large Generator Interconnection Procedures and Large Generator Interconnection Agreement in PacifiCorp's OATT. PacifiCorp requests an effective date of January 19, 2005.

PacifiCorp states that copies of this filing were supplied to the Public Utility Commission of Oregon and the Washington Utilities and Transportation Commission. In addition, PacifiCorp's existing transmission customers were notified by e-mail.

Comment Date: 5 p.m. Eastern Time on February 24, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please e-mail FERCOnlineSupport@ferc.gov, or call (866) 208-3676 (toll free). For TTY, call (202) 502-8659.

Linda Mitry,
Deputy Secretary.

[FR Doc. E5-632 Filed 2-14-05; 8:45 am]

BILLING CODE 6717-01-P